DEPARTMENT OF JUSTICE

Notice of Lodging of Settlement Agreement Under the Comprehensive Environmental Response, Compensation and Liability Act

Under 28 CFR 50.7, notice is hereby given that on February 10, 2006, a proposed settlement agreement in In re Imperial Home Decor Group, Inc., et al., Case No. 00-19 (Bktcy Del.), was lodged with the United States Bankruptcy Court for the District of Delaware.

The settlement agreement resolves the United States' proof of claim in the Chapter 11 reorganization of Imperial Home Decor Group, Inc. and its affiliates (“Debtors”). The United States' proof of claim sought recovery of cleanup costs pursuant to Section 107(a) of the Comprehensive Environmental Response, Compensation and Liability Act, 42 U.S.C. 9607(a), at the SRS Superfund Site in Southington, Connecticut (“Site”). Predecessors of Debtors allegedly arranged for the treatment or disposal of hazardous substances at the Site. The settlement provides for the United States to have an allowed unsecured claim of $919,705. The claim will be paid in the ordinary course of the bankruptcy proceeding.

The Department of Justice will receive for a period of thirty (30) days from the date of this publication comments relating to the settlement agreement. Comments should be addressed to the Assistant Attorney General, Environment and Natural Resources Division, P.O. Box 7611, U.S. Department of Justice, Washington, DC 20044-7611, and should refer to In re Imperial Home Decor Group, Inc., et al., D.J. No. 90-7-1-23/1.

The settlement agreement may be examined at the Office of the United States Attorney, Nemours Building, 1007 Orange Street, Suite 700, Wilmington, DE 19801, and at the Region I Office of the U.S. Environmental Protection Agency, One Congress Street, Suite 1100, Boston, MA 02114. During the public comment period, the settlement agreement also may be examined on the following Department of Justice Web site, http://www.usdoj.gov/enrd/open.html. A copy of the settlement agreement may also be obtained by mail from the Consent Decree Library, P.O. Box 7611, U.S. Department of Justice, Washington, DC 20044-7611 or by faxing or e-mailing a request to Tonia Fleetwood (tonia.fleetwoor@usdoj.gov), fax no. (202) 514-0097, phone confirmation number (202) 514-1547. In requesting a copy from the Consent Decree Library, please enclose a check in the amount of $1.00 (25 cents per page reproduction cost) payable to the U.S. Treasury.

Ronald G. Gluck,
Assistant Section Chief, Environmental Enforcement Section, Environment and Natural Resources Division.

[FR Doc. 06-1700 Filed 2-23-06; 8:45 am]

BILLING CODE 4410-15-M